DEPARTMENT OF LABOR

Employment Standards Administration

Proposed Collection; Comment Request

AGENCY: Employment Standards Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed new collection “Alternate Employment Information Request.” A copy of the proposed information collection request can be obtained by contacting the office listed below in the addressee section of this Notice.

DATES: Written comments must be submitted to the office listed in the addressee section below on or before October 28, 2002.

ADDRESSES: Ms. Patricia A. Forkel, U.S. Department of Labor, 200 Constitution Ave., NW., Room S-3201, Washington, DC 20210, telephone (202) 693-0339, fax (202) 693-1451, e-mail pforkel@fenix2.dol-esa.gov. Please use only one method of transmission for comments (mail, fax, or e-mail).

I. Background

The Energy Employees Occupational Illness Compensation Program Act of 2000, as amended (EEOICPA or Act), 42 U.S.C. 7384 et seq, established a program to provide compensation to covered employees, and where applicable, survivors of such employees, suffering from illnesses incurred in the performance of duty for the Department of Energy (DOE) and certain of its contractors, subcontractors and vendors. Employees and/or survivors claiming benefits must establish a verified employment history that includes at least one period of covered employment. As part of an employment verification process, DOE reviews the claimed period of employment to affirm its accuracy. If DOE is unable to verify the alleged employment history, the Office of Workers' Compensation Programs must obtain factual evidence necessary to establish covered employment from private entities who are not current contractors or subcontractors of DOE.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks the approval of this information collection in order to carry out its responsibility to establish eligibility for benefits to those persons seeking compensation under EEOICPA. There is no standardized form or format associated with the information request, and each private entity may determine the most convenient methodology to respond. The OWCP will accept responses via e-mail, telephone, FAX or mail.

Type of Review: New.

Agency: Employment Standards Administration.

Title: Alternate Employment Information Request.

OMB Number: 1215-0NEW.

Affected Public: Businesses or other for-profit; Not for-profit institutions.

Total Respondents: 100.

Total Responses: 2,000.

Frequency: On occasion.

Average Time per Response: 30 minutes.

Estimated Total Burden Hours: 1,000.

Total Burden Cost (capital/startup): $0.

Total Burden Cost (operating/maintenance): $480.

Comments submitted in response to this notice will be summarized and/or included in the request for Office of Management and Budget approval of the information collection request; they will also become a matter of public record.

Dated: August 22, 2002.
Margaret J. Sherrill,
Chief, Branch of Management Review and Internal Control, Division of Financial Management, Office of Management, Administration and Planning, Employment Standards Administration.

[FR Doc. 02-22019 Filed 8-28-02; 8:45 am]

BILLING CODE 4510-CH-P